ENVIRONMENTAL PROTECTION AGENCY

40 CFR Part 52

[EPA-R09-OAR-2012-0021; FRL-9707-6]

Approval, Disapproval and Promulgation of Air Quality Implementation Plans; Arizona; Regional Haze State and Federal Implementation Plans

AGENCY: Environmental Protection Agency (EPA).

ACTION: Proposed rule; notice of additional public hearings and extension of comment period.

SUMMARY: EPA is holding two additional public hearings in Arizona on August 14 and 15, 2012, for the proposed rule, “Approval, Disapproval and Promulgation of Air Quality Implementation Plans; Arizona; Regional Haze State and Federal Implementation Plans”, published in the Federal Register on July 20, 2012 (77 FR 42833). The two hearings will provide opportunities for public comment in addition to the public hearing already scheduled for July 31, 2012, in Phoenix, Arizona. EPA also is extending the public comment period to September 18, 2012, to provide 60 days of comment after the publication of the proposed rule.

DATES: The public hearings will be held on August 14 and 15, 2012. See the SUPPLEMENTARY INFORMATION section for further details about the public hearings. Extension of comment period: September 18, 2012.

ADDRESSES: See the SUPPLEMENTARY INFORMATION section for hearing locations.

FOR FURTHER INFORMATION CONTACT: If you have questions about the public hearings, please contact Thomas Webb, U.S. EPA, Region 9, phone (415) 947-4139, email webb.thomas@epa.gov. If you are a person with a disability under the ADA and require a reasonable accommodation for this event, please contact Philip Kum at kum.philip@epa.gov or at (415) 947-3566 by July 31, 2012.

SUPPLEMENTARY INFORMATION: Section 169A of the Clean Air Act (CAA) establishes as a national goal the “prevention of any future, and the remedying of any existing, impairment of visibility in mandatory Class I Federal areas which impairment results from manmade air pollution.” Arizona has twelve mandatory Class I areas; several Class I areas in other states are also affected by emissions from Arizona facilities.

Regional haze is visibility impairment caused by the cumulative air pollutant emissions from numerous sources over a wide geographic area. EPA's proposed Regional Haze Federal Implementation Plan (FIP) for Arizona addresses the requirements of the CAA and EPA's regional haze regulations pertaining to Best Available Retrofit Technology (BART) for three electric generating stations in Arizona: Apache Generating Station, Cholla Power Plant and Coronado Generating Station. EPA will propose to address other facilities and other elements of the Arizona SIP in a later action. The proposed rule, “Approval, Disapproval and Promulgation of Air Quality Implementation Plans; Arizona; Regional Haze State and Federal Implementation Plans”, was published in the Federal Register on July 20, 2012 (77 FR 42833).

The proposed rule and information on which the proposed rule relies are available in the docket for this action. Generally, documents in the docket for this action will be available electronically at www.regulations.gov and in hard copy at EPA Region IX, 75 Hawthorne Street, San Francisco, California. While all documents in the docket are listed at www.regulations.gov, some information may be publicly available only at the hard copy location (e.g., copyrighted material, large maps), and some may not be publicly available in either location (e.g., Confidential Business Information). To inspect the hard copy materials, please schedule an appointment during normal business hours with the contact listed in the FOR FURTHER INFORMATION CONTACT section.

Public hearings: EPA will hold public hearings at the following dates, times and locations to accept oral and written comments into the record. These hearings will provide further opportunities for public comment beyond the initial hearing scheduled for July 31, 2012, in Phoenix, Arizona. See the proposed rule for more information on the July 31 hearing.

Date: August 14, 2012.

Time: 6:00-8:00 p.m.

Location: Northland Pioneer College, Painted Desert Campus, Tiponi Community Center, Conference Room, 2251 East Navajo Boulevard, Holbrook, AZ 86025.

Date: August 15, 2012.

Time: 6:00-8:00 p.m.

Location: Cochise College, Benson Center, Rooms 113 and 115, 1025 South State Route 90, Benson, AZ 85602-6501.

The public hearings will provide the public with an opportunity to present data, views, or arguments concerning the proposed action for Arizona. EPA may ask clarifying questions during the oral presentations, but will not respond to the presentations at that time. Simultaneous translation in Spanish will be available during the public hearings. Written statements and supporting information submitted during the comment period will be considered with the same weight as any oral comments and supporting information presented at the public hearings. Please consult the proposed rule for guidance on how to submit written comments to EPA.

At the public hearings, the hearing officer may limit the time available for each commenter to address the proposal to five minutes or less if the hearing officer determines it is appropriate. Any person may provide written or oral comments and data pertaining to our proposal at the public hearings. We will include verbatim transcripts, in English, of the hearing and written statements in the rulemaking docket.

Extension of comment period: EPA also is extending the public comment period for the proposed rule to provide more time for comments and to align with the dates of the public hearings. The comment period will now end on September 18, 2012.

Dated: July 24, 2012.
Kerry J. Drake,
Acting Air Division Director, Region IX.

[FR Doc. 2012-18520 Filed 7-30-12; 8:45 am]

BILLING CODE 6560-50-P